ENVIRONMENTAL PROTECTION AGENCY

[FRL 7507-1]

Science Advisory Board, Environmental Health Committee; Notification of an Upcoming Meeting of the Supplemental Guidance for Assessing Cancer Susceptibility From Early-Life Exposure to Carcinogens (SGACS) Review Panel

AGENCY: Environmental Protection Agency (EPA).

ACTION: Notice.

SUMMARY: The Environmental Protection Agency, Science Advisory Board (SAB), announces an upcoming teleconference meeting to discuss the draft report of the Supplemental Guidance for Assessing Cancer Susceptibility from Early-life Exposure to Carcinogens (SGACS) review panel.

DATES: The teleconference meeting will take place on June 20, 2003, from 3 p.m. to 5 p.m. (eastern daylight time).

ADDRESSES: The meeting will take place at the Science Advisory Board Conference Room 6013, 1200 Pennsylvania Avenue, NW., Washington DC 20460.

FOR FURTHER INFORMATION CONTACT: For general information about the meeting, please contact Dr. Suhair Shallal, PhD., Designated Federal Officer, by telephone/voice mail at (202) 564-4566, by fax at (202) 501-0582; or via e-mail at shallal.suhair@epa.gov. General information concerning the EPA Science Advisory Board can be found on the EPA SAB Web site at: http://www.epa.gov/sab.

SUPPLEMENTARY INFORMATION: Notification of Public Meeting. Pursuant to the Federal Advisory Committee Act, Public Law 92-463, notice is hereby given that the Supplemental Guidance for Assessing Cancer Susceptibility (SGACS) panel of the U.S. EPA Science Advisory Board (SAB) will meet to discuss its draft report of the review the EPA's Office of Research and Development draft document entitled “Supplemental Guidance for Assessing Cancer Susceptibility From Early-Life Exposure to Carcinogens.” This document provides a possible approach for assessing cancer susceptibility from early-life exposure to carcinogens.

The purpose of this meeting is to allow contemporaneous public access to the SGACS review panel's deliberations concerning the draft report. The meeting is open to the public; however, seating is limited and available on a first come basis. The meeting will be held at the times and dates and place specified above. A copy of the draft agenda for the meeting will be posted on the SAB Web site (www.epa.gov/sab) (under the AGENDAS subheading) approximately 7 days before the meeting.

For more information regarding the background on this advising activity, please refer to the Federal Register, 68 FR 10240, published on March 4, 2003, or the SAB Web site at http://www.epa.gov/sab/panels/sgacsrp.html.

The panel was charged with responding to questions concerning the document mentioned above. Information regarding these questions and the review materials are available in Federal Register notice, 68 FR 17803 published on April 11, 2003.

Providing Oral or Written Comments at SAB Meetings: It is the policy of the EPA Science Advisory Board (SAB) to accept written public comments of any length, and to accommodate oral public comments whenever possible. The EPA SAB expects that public statements presented at its meetings will not be repetitive of previously submitted oral or written statements. Oral Comments: In general, each individual or group requesting an oral presentation at a face-to-face meeting will be limited to a total time of 10 minutes (unless otherwise indicated) and no more than one hour total for all speakers. For teleconference meetings, opportunities for oral comment will usually be limited to no more than two minutes per speaker and no more than 10 minutes total for all speakers. Interested parties should contact the DFO at least one week prior to the meeting in order to be placed on the public speaker list for the meeting. Speakers may attend the meeting and provide comment up to the meeting time. Speakers should bring at least 35 copies of their comments and presentation slides for distribution to the reviewers and public at the meeting. Written Comments: Although the SAB accepts written comments until the date of the meeting (unless otherwise stated), written comments should be received in the SAB Staff Office at least one week prior to the meeting date so that the comments may be made available to the review panel for their consideration. Comments should be supplied to the DFO at the address/contact information noted in the opening of this notice in the following formats: one hard copy with original signature, and one electronic copy via e-mail (acceptable file format: Adobe Acrobat, WordPerfect, Word, or Rich Text files (in IBM-PC/Windows 95/98 format). Those providing written comments and who attend the meeting are also asked to bring 35 copies of their comments for public distribution. Should comment be provided at the meeting and not in advance of the meeting, they should be in-hand to the DFO up to and immediately following the meeting. The SAB allows a grace period of 48 hours after adjournment of the public meeting to provide written comments supporting any verbal comments stated at the public meeting to be made a part of the public record.

Meeting Access: Individuals requiring special accommodation at this meeting, including wheelchair access to the conference room, should contact Ms. Sandra Friedman, friedman.sandra@epa.gov or by telephone/voice mail at (202) 564-2526 at least five business days prior to the meeting date so that appropriate arrangements can be made.

Dated: May 22, 2003.
Vanessa T. Vu,
Director, EPA Science Advisory Board.

[FR Doc. 03-13885 Filed 6-2-03; 8:45 am]

BILLING CODE 6560-50-P